DEPARTMENT OF COMMERCE

International Trade Administration

[C-423-809]

Stainless Steel Plate in Coils From Belgium: Preliminary Results of Countervailing Duty Administrative Review

AGENCY: Import Administration, International Trade Administration, Department of Commerce.

SUMMARY: The Department of Commerce is conducting an administrative review of the countervailing duty order on stainless steel plate in coils from Belgium for the period January 1, 2006, through December 31, 2006. We preliminarily find that Ugine & ALZ Belgium received countervailable subsidies during the period of review. If these preliminary results are adopted in our final results of this review, we will instruct the U.S. Customs and Border Protection to assess countervailing duties as detailed in the “Preliminary Results of Review” section of this notice. Interested parties are invited to comment on these preliminary results. See the “Public Comment” section of this notice.

EFFECTIVE DATE: June 6, 2008.

FOR FURTHER INFORMATION CONTACT: David Neubacher or Alicia Winston, AD/CVD Operations, Office 1, Import Administration, U.S. Department of Commerce, 14th Street and Constitution Avenue, NW., Washington, DC 20230; telephone: (202) 482-5823 and (202) 482-1785, respectively.

SUPPLEMENTARY INFORMATION:

Background

On May 11, 1999, the Department of Commerce (“the Department”) published a countervailing duty order on stainless steel plate in coils (“SSPC”) from Belgium. See Notice of Amended Final Determinations: Stainless Steel Plate in Coils from Belgium and South Africa; and Notice of Countervailing Duty Orders: Stainless Steel Plate in Coils from Belgium, Italy and South Africa, 64 FR 25288 (May 11, 1999) (“CVD Order”). On March 11, 2003, as a result of litigation, the Department published an amended countervailing duty order on stainless steel plate in coils from Belgium. See Notice of Amended Countervailing Duty Orders; Certain Stainless Steel Plate in Coils From Belgium, Italy, and South Africa, 68 FR 11524 (March 11, 2003) (“Amended CVD Order”). On May 1, 2007, the Department published a notice of “Opportunity to Request Administrative Review” for this countervailing duty order. See Antidumping or Countervailing Duty Order, Finding, or Suspended Investigation; Opportunity to Request Administrative Review, 72 FR 23796, 23797 (May 1, 2007). On May 31, 2007, we received a request for review from U&A.¹ In accordance with 19 CFR 351.221(c)(1)(i) (2004), we published a notice of initiation of the review on June 29, 2007. See Initiation of Antidumping and Countervailing Duty Administrative Reviews, Request for Revocation in Part and Deferral of Administrative Review, 72 FR 35690, 35693 (June 29, 2007) (“Initiation Notice”).

¹On June 20, 2007, Ugine & ALZ Belgium (“U&A”) provided a letter to the Department stating that the company was formerly ALZ N.V. (“ALZ”).

On July 13, 2007, we issued countervailing duty questionnaires to the Government of Belgium (“GOB”), the Commission of the European Union (“EC”), and U&A. We received responses to these questionnaires on September 21, and 24, 2007. On April 3, 2008, we issued supplemental questionnaires to the GOB and U&A. We issued a further supplemental questionnaire to U&A on April 24, 2008. We received a response from U&A for both supplemental questionnaires on April 28, 2008. The GOB requested an extension to file its supplemental response, which we granted. The GOB, however, did not respond to the supplemental questionnaire by the extended deadline. We issued additional supplemental questionnaires to U&A on May 1, and 8, 2008, and received responses to our supplemental questionnaires on May 8, 13, 2008, and 16, 2008.

On May 20, 2008, Allegheny Ludlum Corporation; North American Stainless; United Auto Workers Local 3303; Zanesville Arco Independent Organization; and the United Steelworkers of America, AFL-CIO/CLC (collectively, “the petitioners”) submitted comments for consideration in the preliminary results. We received a response from U&A to petitioners' pre-preliminary comments on May 22, 2008.

On January 9, 2008, we published a postponement of the preliminary results in this review until May 30, 2008. See Stainless Steel Plate in Coils from Belgium: Extension of Time Limit for Preliminary Results of Countervailing Duty Administrative Review, 73 FR 1599 (January 9, 2008).

Scope of the Order

The products covered by this order are imports of certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils, (2) plate that is not annealed or otherwise heat treated and pickled or otherwise descaled, (3) sheet and strip, and (4) flat bars.

The merchandise subject to this order is currently classifiable in the Harmonized Tariff Schedule of the United States (“HTSUS”) at subheadings: 7219.11.00.30, 7219.11.00.60, 7219.12.00.05, 7219.12.00.06, 7219.12.00.20, 7219.12.00.21, 7219.12.00.25, 7219.12.00.26, 7219.12.00.50, 7219.12.00.51, 7219.12.00.55, 7219.12.00.56, 7219.12.00.65, 7219.12.00.66, 7219.12.00.70, 7219.12.00.71, 7219.12.00.80, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the Department's written description of the scope of this order remains dispositive.

This scope language reflects the March 11, 2003, amendment of the antidumping and countervailing duty orders and suspension of liquidation which the Department implemented in accordance with the Court of International Trade (“CIT”) decision in Allegheny Ludlum v. United States, Slip Op. 02-147 (Dec. 12, 2002). See, also, Notice of Amended Antidumping Orders; Certain Stainless Steel Plate in Coils from Belgium, Canada, Italy, the Republic of Korea, South Africa, and Taiwan, 68 FR 11520 (March 11, 2003) and Amended CVD Order.

Period of Review

The period for which we are measuring subsidies, i.e., the period of review (“POR”), is January 1, 2006, through December 31, 2006.

Use of Facts Otherwise Available

Sections 776(a)(1) and (2) of the Act, provide that the Department shall apply “facts otherwise available” if, inter alia, necessary information is not on the record or an interested party or any other person: (A) Withholds information that has been requested; (B) fails to provide information within the deadlines established, or in the form and manner requested by the Department, subject to subsections (c)(1) and (e) of section 782 of the Act; (C) significantly impedes a proceeding; or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate. Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information if it can do so without undue difficulties.

In this case, the Department sent a supplemental questionnaire to the GOB seeking confirmation that U&A did not receive benefits during the 15-year average useful life of renewable physical assets (“AUL”) for programs under the program headings “Industrial Reconversion Zones;” “Regional Subsidies under the Economic Expansion Law of 1970 (GOB)” and “Regional Subsidies under the Economic Expansion Law of 1970 (Government of Flanders (“GOF”))”. The GOB, through U&A, requested an extension to respond to the supplemental questionnaire, which was granted until April 28, 2008. The GOB did not provide a response to the supplemental questionnaire by this deadline, but we received an extension request on May 6, 2008. The Department granted the GOB's request, but the GOB did not file a response by the May 19, 2008, deadline. On May 23, 2008, the Department received a letter from the GOB stating it was still working on providing a response to the supplemental questions and would submit an answer as soon as it becomes available.

Thus, in reaching our finding for the preliminary results, pursuant to sections 776(a)(2)(A) and (C) of the Act, we are relying on facts otherwise available to determine the countervailable subsidy conferred by the GOB under the “Industrial Reconversion Zones” and both “Economic Expansion Law of 1970” programs.

Section 776(b) of the Act further provides that the Department may use an adverse inference in applying the facts otherwise available when a party has failed to cooperate by not acting to the best of its ability to comply with a request for information. Section 776(b) of the Act also authorizes the Department to use as adverse facts available (“AFA”) information derived from the petition, the final determination, a previous administrative review, or other information placed on the record.

Section 776(c) of the Act provides that, when the Department relies on secondary information rather than on information obtained in the course of an investigation or review, it shall, to the extent practicable, corroborate that information from independent sources that are reasonably at its disposal. Secondary information is defined as “{i}nformation derived from the petition that gave rise to the investigation or review, the final determination concerning the subject merchandise, or any previous review under section 751 concerning the subject merchandise.” See Statement of Administrative Action (SAA) accompanying the Uruguay Round Agreements Act, H. Doc. No. 316, 103d Cong., 2d Session (1994) at 870. Corroborate means that the Department will satisfy itself that the secondary information to be used has probative value. See SAA at 870. To corroborate secondary information, the Department will, to the extent practicable, examine the reliability and relevance of the information to be used. The SAA emphasizes, however, that the Department need not prove that the selected facts available are the best alternative information. See SAA at 869.

The Department states in Certain In-shell Roasted Pistachios from the Islamic Republic of Iran: Final Results of Countervailing Duty New Shipper Review, 73 FR 9993 (February 25, 2008), and accompanying Issues and Decision Memorandum at Comment 2 (“Pistachios from Iran 2008”), that where the foreign government fails to adequately respond to the Department's questionnaires, the Department's practice is to apply adverse inferences and assume the alleged subsidy programs constitute a financial contribution and are specific within the meaning of sections 771(5)(D) and 771(5A) of the Act, respectively. However, if information on the record indicates that the respondent did not use the program, the Department will find the program not used, regardless of whether the foreign government participated to the best of its ability.

In its September 24, 2007, questionnaire response, the GOB and U&A responded fully to the Department's questions regarding potential subsidy programs during the POR. In a subsequent supplemental questionnaire to the GOB, the Department asked the GOB to confirm that U&A did not receive benefits during the AUL period for programs under the “Industrial Reconversion Zones” and both “Economic Expansion Law of 1970” programs. Upon examination of the programs listed under each of these headings, we note that several of the programs described are recurring subsidy programs that are associated with tax programs (Industrial Reconversion Zones: Albufin and Regional Subsidies under the Economic Expansion Law of 1970 (GOB): Real Estate Tax Exemption and Accelerated Depreciation). As such, we have examined U&A's responses on these programs and find that statements by U&A in its questionnaire and supplemental questionnaire responses regarding the use of these programs during the POR, as well as documentation (e.g., financial statements and U&A's 2006 tax return) on the record, support the company's assertion that it did not receive benefits under these recurring programs in 2006. Although the GOB did not respond to the Department's questions regarding these programs, the information on the record supports U&A's assertion that it did not use these programs during the POR. Therefore, we preliminarily find that U&A did not receive benefits under these programs according to section 771(5)(E) of the Act.

For the programs under the Regional Subsidies under the 1970 Law (GOF) (Corporate Income Tax Exemption, Capital Registration Tax Exemption Government Loan Guarantees, and 1993 Loan Grant programs), the Department found these programs to be not used by U&A in the investigation and first administrative review (the only administrative review for which a request for a review was made). We note that no new information on the record contradicts our previous finding of non-use for the above GOF programs. Moreover, U&A's submitted documentation (2006 financial statements and 2006 tax returns) provides additional support that the recurring subsidy programs within this group continue to be not used. Therefore, consistent with our previous findings of non-use and no new information on the record that U&A started to use these programs, we preliminarily continue to find the programs under the Regional Subsidies under the 1970 Law (GOF) not used.

The remaining program under these headings involves one non-recurring program (Industrial Reconversion Zones: Alfin). The Department found this program countervailable during the investigation and stated that the benefit found had been fully allocated by the end of the first administrative review. In the GOB's and U&A's responses to the Department regarding this program, both parties stated that the benefit the Department found countervailable had been fully allocated out in the first administrative review POR, that the program had not changed, and that no benefits were provided/received in the POR. The GOB and U&A, however, did not address whether benefits were conferred upon U&A during the full AUL period. In its supplemental questionnaire to the GOB, the Department attempted to clarify those statements and confirm that no benefits were provided to U&A for the full AUL period. The GOB did not respond to the supplemental questionnaire, and as stated above, U&A only provided an incomplete answer in its questionnaire response. Thus, the Department has no information on the record from which to analyze whether the GOB provided additional benefits to U&A under this program over the full AUL period.

In selecting from among the facts available for U&A, the Department has determined that an adverse inference is warranted, pursuant to section 776(b) of the Act. The Department preliminarily determines that records relating to subsidy distribution by the GOB are records that are, or should be kept by both the GOB and U&A. Further, by failing to submit a response to the Department's supplemental CVD questionnaire, we preliminarily determine that the GOB did not cooperate to the best of its ability in providing pertinent information on non-recurring programs over the full AUL period. Further, U&A failed to provide a complete response to the Department's questionnaire addressing the full AUL period. As no information on the record exists for the program beyond the original countervailable benefit and POR of this review, and neither the GOB nor U&A provided an adequate response for this program, we find, as adverse facts available, that the GOB conferred a benefit to U&A under the Industrial Reconversion Zones: Alfin program, during the AUL period, as per section 771(5)(E) of the Act. We note that supplemental questions regarding the use of the above programs during the full AUL period were directed only at the GOB. Therefore, we will issue an additional supplemental questionnaire to U&A that will request supporting documentation regarding the usage of the above programs during the full AUL period.

Selection of the Partial Adverse Facts Available Rate

In deciding which facts to use as AFA, section 776(b) of the Act and 19 CFR 351.308(c)(1) authorize the Department to rely on information derived from (1) the petition, (2) a final determination in the investigation, (3) any previous review or determination, or (4) any information placed on the record. It is the Department's practice to select, as AFA, the highest calculated rate in any segment of the proceeding. See, e.g., Certain In-shell Roasted Pistachios from the Islamic Republic of Iran: Final Results of Countervailing Duty Administrative Review, 71 FR 66165 (November 13, 2006), and accompanying Issues and Decision Memorandum at “Analysis of Programs.” Therefore, the Department has preliminarily assigned the first administrative review rate of 0.17% (the highest calculated rate for the program during any previous segment) subsidy rate to the “Industrial Reconversion Zones: Alfin” program. In order to satisfy itself that such information has probative value, the Department will examine, to the extent practicable, the reliability and relevance of the information used. With regard to the reliability aspect of corroboration, unlike other types of information, such as publicly available data on the national inflation rate of a given country or national average interest rates, there typically are no independent sources for data on company-specific benefits resulting from countervailable subsidy programs. The only source for such information normally is administrative determinations.

In the instant case, no evidence has been presented or obtained which contradicts the reliability of the evidence relied upon in previous segments of this proceeding.

With respect to the relevance aspect of corroboration, the Department will consider information reasonably at its disposal as to whether there are circumstances that would render benefit data not relevant. Where circumstances indicate that the information is not appropriate as adverse facts available, the Department will not use it. See Fresh Cut Flowers from Mexico; Final Results of Antidumping Duty Administrative Review, 61 FR 6812 (February 22, 1996). In the instant case, no evidence has been presented or obtained which contradicts the relevance of the benefit data relied upon in previous segments of this proceeding. Thus, in the instant case, the Department finds that the information used has been corroborated to the extent practicable.

Changes in Ownership

Effective June 30, 2003, the Department adopted a new methodology for analyzing privatizations in the countervailing duty context. See Notice of Final Modification of Agency Practice Under Section 123 of the Uruguay Round Agreements Act, 68 FR 37125 (June 23, 2003) (“Modification Notice”). The Department's new methodology is based on a rebuttable “baseline” presumption that non-recurring, allocable subsidies continue to benefit the subsidy recipient throughout the allocation period (which normally corresponds to the AUL of the recipient's assets). Id., at 37127. However, an interested party may rebut this baseline presumption by demonstrating that, during the allocation period, a change in ownership occurred in which the former owner sold all or substantially all of a company or its assets, retaining no control of the company or its assets, and that the sale was an arm's-length transaction for fair market value. Id.

U&A's ownership changed during the AUL period as a result of mergers and ownership changes. However, during the current administrative review, U&A has not attempted to rebut the Department's baseline presumption that the non-recurring, allocable subsidies received prior to any changes in ownership continue to benefit the company throughout the allocation period. See U&A's September 24, 2007, questionnaire response at pages 12-13.

Subsidies Valuation Information

Responding Producers

In earlier proceedings, we found that ALZ N.V.'s (“ALZ's”) parent company, Sidmar N.V. (“Sidmar”), owned either directly or indirectly 100 percent of ALZ's voting shares and was the overall majority shareholder of U&A Belgium. See Final Affirmative Countervailing Duty Determination; Stainless Steel Plate in Coils from Belgium, 64 FR 15567 (March 31, 1999) (“SSPC from Belgium Investigation”); Stainless Steel Plate in Coils from Belgium: Final Results of Countervailing Duty Administrative Review, 66 FR 45007 (August 27, 2001), and accompanying Issues and Decision Memorandum (“SSPC from Belgium First Review”). Therefore, in accordance with section 351.525(a)(6)(iii) of the Department's regulations, because ALZ was a fully consolidated subsidiary of Sidmar, any untied subsidies provided to Sidmar are attributable to ALZ.

In the current review, U&A provided evidence on the record that it is wholly owned by Arcelor and that Sidmar transferred shares to Arcelor pursuant to the 2002 merger of Sidmar's parent, Arbed, with Aceralia and Usinor. Certain details of this transfer are proprietary in nature and are discussed in U&A's Calculation Memo. See Memorandum to Susan Kuhbach, Director, regarding “Calculations for the Preliminary Results for U&A Belguim” (May 30, 2008) (“U&A's Calculation Memo”). Based on the information provided, we preliminary find it appropriate to attribute any non-recurring subsidy benefits provided to Sidmar and that are still outstanding during the POR to U&A's sales.

Allocation Period

In SSPC from Belgium Investigation, in accordance with a CIT decision, we calculated company-specific allocation periods for non-recurring subsidies using company-specific AUL data. See British Steel plc v. United States, 929 F. Supp. 426, 439 (CIT 1996). We determined that the AUL for ALZ was 15 years, and that the AUL for Sidmar was 19 years. See SSPC from Belgium, 64 FR at 15568.

In the first administrative review, the Department adopted new CVD regulations, which were applicable to the review, and determined to use a 15-year AUL for the review including any new subsidies received by Sidmar. See SSPC from Belgium First Review, and accompanying Issues and Decision Memorandum at Comment 2. However, with respect to non-recurring subsidies received prior to the first administrative review which had already been countervailed and allocated based on an allocation period established in SSPC from Belgium Investigation, we continued to allocate those non-recurring subsidies over 19 years for Sidmar. As we noted at the time, this methodology was consistent with our approach in Certain Carbon Steel Products from Sweden; Final Results of Countervailing Duty Administrative Review, 62 FR 16549 (April 7, 1997) and Certain Pasta from Italy: Final Results of Third Countervailing Duty Administrative Review, 66 FR 11269 (February 23, 2001) and accompanying Issues and Decision Memorandum at “Allocation Period.” See SSPC from Belgium First Review, and accompanying Issues and Decision Memorandum at Comment 2.

During the current administrative review, U&A has not commented on the Department's use of the 15-year AUL period or the use of a 19-year AUL for Sidmar's non-recurring subsidies received by the company in the investigation. For the preliminary results, we will continue to employ our previous methodology and use the 15-year AUL for U&A and allocate any non-recurring subsidies received by Sidmar in the investigation over the 19-year AUL.

Benchmarks for Discount Rate

Because Sidmar did not obtain long-term commercial loans in the year in which the grant was received, as described in section 351.505(a)(2)(iii), we used a national average rate for long-term, fixed-rate debt as the discount rate. See section 351.505(a)(3)(ii) of the Department's regulations.

Analysis of Programs

I. Program Previously Determined To Confer Subsidies

We examined the following program determined to confer subsidies in the investigation and the first administrative review and preliminarily find that U&A continued to receive benefits under this program during the POR.

SidInvest

SidInvest was incorporated on August 31, 1982, as a holding company jointly owned by Sidmar and the Societe Nationale d'Investissement, S.A. (“SNI”) (a government financing agency). SidInvest was given drawing rights on SNI to finance specific projects. The drawing rights took the form of conditional refundable advances (“CRAs”), which were interest-free, but repayable to SNI based on a company's profitability. See SSPC From Belgium Investigation, 64 FR at 15572.

SidInvest made periodic repayments of the CRAs it had drawn from SNI. However, in 1987, the GOB moved to accelerate the repayment of the CRAs. Later, in July 1988, an agreement was reached for the government agency Nationale Maatschappig voor de Herstructurering van de Nationale Sectoren (“NMNS”) to become a shareholder in SidInvest by contributing the CRAs owed to the government by SidInvest in exchange for SidInvest stock. The Sidmar Group then repurchased the SidInvest shares obtained by NMNS. Id.

We determined that this program conferred a countervailable subsidy within the meaning of section 771(5) of the Tariff Act of 1930, as amended (“the Act”). Id. This program provided a financial contribution as described in section 771(5)(D)(i) of the Act. Id. Moreover, because the right to establish “Invests” (and, consequently, any forgiveness of loans given to the Invests) was limited to the five national sectors, we determined that the program was specific under section 771(5A)(D)(i) of the Act. Id. In this administrative review, no new information has been placed on the record which would warrant reconsideration of this determination.

To measure the benefit arising from the events of July 29, 1988, we have deducted from SidInvest's outstanding indebtedness the cash received by the GOB. We have treated the remainder as a grant and allocated the benefit over Sidmar's 19-year AUL. We divided the total benefit attributable to 2006 by U&A Belgium's total sales during 2006. On this basis, we preliminarily determine the countervailable subsidy for 2006 to be 0.31 percent ad valorem.

Industrial Reconversion Zones: Alfin

As noted in the “Use of Facts Otherwise Available ”section above, we preliminarily find U&A to have benefitted from the Industrial Reconversion Zones: Alfin program during the POR in the amount of 0.17 percent.

II. Programs Preliminarily Determined To Be Not Used

We examined the following programs and preliminarily determine that U&A did not apply for or receive benefits under these programs during the POR:

A. Government of Belgium Programs

1. Subsidies Provided to Sidmar That Are Potentially Attributable to ALZ:

a. Water Purification Grants

2. Societe Nationale pour la Reconstruction des Secteurs Nationaux

3. Regional subsidies under the 1970 Law Investment and Interest Subsidies

4. Regional Subsidies under the Economic Expansion Law of 1970

a. Expansion Real Estate Tax Exemption

b. Accelerated Depreciation

5. Reduced Social Security Contributions Pursuant to the Maribel Scheme (Article 35 of the Law of June 29, 1981)

6. 1987 ALZ Common Share Transaction Between the GOB and Sidmar (also identified as 1985 ALZ Share Subscriptions and Subsequent Transactions in the CVD Order)

7. Industrial Reconversion Zones:

a. Albufin

8. Belgian Industrial Finance Company (“Belfin”) Loans

9. Societe Nationale de Credite a l'Industrie (“SNCI”) Loans

10. Conversion of Sidmar's Debt to Equity (OCPC-to-PB) in 1985

B. Government of Flanders Programs

1. Regional subsidies under the 1970 Law

a. Corporate Income Tax Exemption

b. Capital Registration Tax Exemption

c. Government Loan Guarantees

d. 1993 Expansion Grant

2. Special Depreciation Allowance

3. Preferential Short-Term Export Credit

4. Interest Rate Rebates

C. Programs of the European Commission

1. ECSC Article 54 Loans and Interest Rebates

2. ECSC Article 56 Conversion Loans, Interest Rebates and Redeployment Aid

3. European Social Fund Grants

4. European Regional Development Fund Grants

5. Resider II Program

III. Issues for Which More Information Is Required

On May 1, 2008, the Department sought information from U&A concerning amounts appearing in its 2005 and 2006 financial statements. U&A submitted some requested information on May 8, 2008, and May 13, 2008. In addition, in its May 22, 2008, response to petitioners' pre-preliminary comments, U&A stated that it had inadvertently not included all of its divisions and cross-owned companies in its submitted total sales and export data. After reviewing the provided documentation, we have determined that we do not have sufficient information at this time to make a finding on these amounts or the revised sales value and export data. Therefore, we intend to seek further information on these amounts and revised data and to issue an interim analysis describing our preliminary findings with respect to these items before the final results so that parties will have the opportunity to comment.

Preliminary Results of Review

In accordance with 19 CFR 351.221(b)(4)(i), we calculated an individual subsidy rate for U&A, the only producer/exporter subject to this administrative review. For the period January 1, 2006, through December 31, 2006, we preliminarily determine the net subsidy rate for U&A to be 0.48 percent ad valorem. This rate is less than 0.5 percent. Consequently, if these preliminary results are adopted in our final results of this review, the Department will instruct CBP to liquidate shipments of SSPC by U&A² entered or withdrawn from warehouse, for consumption from January 1, 2006, through December 31, 2006, without regard to countervailing duties. See 19 CFR 351.106(c)(1). These instructions will be issued fifteen days after publication of the final results of this review.

² During the current review U&A has placed the following information on the record. In 2002, ALZ in Belgium merged with Ugine, a French producer of stainless steel sheet and strip, to become U&A. The Department has reviewed the information provided by U&A with regard to the merger and evaluated the company and its affiliates for receipt of countervailable subsidies. In addition, we have reviewed entry data provided by U.S. Customs and Border Protection (“CBP”) to confirm that U&A is the only manufacturer of subject merchandise exported from Belgium during the period of review. Therefore, for countervailing duty review purposes, we will consider ALZ to be U&A for cash deposit and assessment purposes.

The final results of this review shall be the basis for future deposits of estimated duties. If the cash deposit rate calculated in the final results is zero or de minimis, no cash deposit will be required. The cash deposit requirement, when imposed, shall remain in effect until further notice.

We will instruct CBP to continue to collect cash deposits for non-reviewed companies covered by this order at the most recent company-specific rate applicable to the company. Accordingly, the cash deposit rate that will be applied to non-reviewed companies covered by this order will be the rate for that company established in the investigation or most recent administrative review. See CVD Order. The “all others” rate shall apply to all non-reviewed companies that have not received an individual rate.

Public Comment

Interested parties may submit written arguments in case briefs within 30 days of the date of publication of this notice. See 19 CFR 351.309(c)(ii). Rebuttal briefs, limited to issues raised in case briefs, may be filed not later than five days after the date of filing the case briefs. See 19 CFR 351.309(d). Parties who submit briefs in this proceeding should provide a summary of the arguments not to exceed five pages and a table of statutes, regulations, and cases cited. See 19 CFR 351.309(c)(2) and (d)(2). Copies of case briefs and rebuttal briefs must be served on interested parties in accordance with 19 CFR 351.303(f).

Interested parties may request a hearing within 30 days after the date of publication of this notice. See 19 CFR 351.310(c). Unless otherwise specified, the hearing, if requested, will be held two days after the scheduled date for submission of rebuttal briefs. See 19 CFR 351.310(d)(1).

The Department will publish a notice of the final results of this administrative review within 120 days from the publication of these preliminary results. See section 751(a)(3)(A) of the Act.

We are issuing and publishing these results in accordance with sections 751(a)(1) and 777(i)(1) of the Act.

Dated: May 30, 2008.
David M. Spooner,
Assistant Secretary for Import Administration.

[FR Doc. E8-12777 Filed 6-5-08; 8:45 am]

BILLING CODE 3510-DS-P